DEPARTMENT OF VETERANS AFFAIRS

[OMB Control No. 2900-0587]

Agency Information Collection (Service Data Manual) Activities Under OMB Review

AGENCY: Office of Acquisition and Logistics, Department of Veterans Affairs.

ACTION: Notice.

SUMMARY: In compliance with the Paperwork Reduction Act (PRA) of 1995 (44 U.S.C. 3501-3521), this notice announces that the Office of Acquisition and Materiel Management, Department of Veterans Affairs, will submit the collection of information abstracted below to the Office of Management and Budget (OMB) for review and comment. The PRA submission describes the nature of the information collection and its expected cost and burden; it includes the actual data collection instrument.

DATES: Comments must be submitted on or before June 23, 2010.

ADDRESSES: Submit written comments on the collection of information through http://www.Regulations.gov; or to VA's OMB Desk Officer, OMB Human Resources and Housing Branch, New Executive Office Building, Room 10235, Washington, DC 20503, (202) 395-7316. Please refer to “OMB Control No. 2900-0587” in any correspondence.

FOR FURTHER INFORMATION OR A COPY OF THE SUBMISSION CONTACT: Denise McLamb, Enterprise Records Service (005R1B), Department of Veterans Affairs, 810 Vermont Avenue, NW., Washington, DC 20420, (202) 461-7485, FAX (202) 273-0443 or e-mail: denise.mclamb@va.gov. Please refer to “OMB Control No. 2900-0587.”

SUPPLEMENTARY INFORMATION: Title: Veterans Affairs Acquisition Regulation (VAAR) Clause 852.211-70, Service Data Manual (previously 852.210-70).

OMB Control Number: 2900-0587.

Type of Review: Extension of a currently approved collection.

Abstract: VAAR clause 852.211-70, Service Data Manual, requires a contractor to furnish both operator's manuals and maintenance/repair manuals when technical medical equipment and devices, or mechanical equipment are provided to VA. This clause sets forth those requirements and the minimum standards the manuals must meet to be acceptable. The operator's manual will be used by the individual operating the equipment to ensure proper operation and cleaning and the maintenance/repair manual will be used by VA equipment repair staff.

An agency may not conduct or sponsor, and a person is not required to respond to a collection of information unless it displays a currently valid OMB control number. The Federal Register Notice with a 60-day comment period soliciting comments on this collection of information was published on March 18, 2010, at page 13210.

Affected Public: Business or other for profit and not-for-profit institutions.

Estimated Annual Burden: 2,500 hours.

Estimated Average Burden per Respondent: 10 minutes.

Frequency of Response: On occasion.

Estimated Number of Respondents: 15,000.

Dated: May 19, 2010.
By direction of the Secretary.
Denise McLamb,
Program Analyst, Enterprise Records Service.

[FR Doc. 2010-12431 Filed 5-21-10; 8:45 am]

BILLING CODE 8320-01-P